DEPARTMENT OF AGRICULTURE

Agricultural Marketing Service

[AMS-TM-09-0014; TM-09-03]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Monday, May 4, 2009, 9 a.m. to 5 p.m.; Tuesday, May 5, 2009, 8 a.m. to 5 p.m.; and Wednesday, May 6, 2009, 8:30 a.m. to 5 p.m. Requests from individuals and organizations wishing to make oral presentations at the meeting are due by the close of business on April 20, 2009.

ADDRESSES: The meeting will take place at the Washington Plaza Hotel, 10 Thomas Circle, NW., Washington, DC 20005.

• Requests for copies of the NOSB meeting agenda, may be sent to Ms. Valerie Frances, Executive Director, NOSB, USDA-AMS-TMP-NOP, 1400 Independence Ave., SW., Room 4004-So., Ag Stop 0268, Washington, DC 20250-0268. The NOSB meeting agenda and proposed recommendations may also be viewed at http://www.ams.usda.gov/nop.

• Comments on proposed NOSB recommendations may be submitted by the close of business on April 20, 2009, in writing to Ms. Valerie Frances at either the postal address above or via the Internet at http://www.regulations.gov only. The comments should identify Docket No. AMS-TM-09-0014. It is our intention to have all comments to this notice whether they are submitted by mail or the Internet available for viewing on the http://www.regulations.gov Web site.

• Requests to make an oral presentation at the meeting may also be sent by April 20, 2009, to Ms. Valerie Frances at the postal address above, by e-mail at valerie.frances@ams.usda.gov, via facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 166 addenda to its recommendations and reviewed more than 342 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding five years unless the exemption or prohibition is reviewed and recommended for renewal by the NOSB and adopted by the Secretary of Agriculture. This expiration is commonly referred to as sunset of the National List. The National List appears at 7 CFR part 205, subpart G.

The principal purposes of the NOSB meeting are to provide an opportunity for the NOSB to receive an update from the USDA/NOP and hear progress reports from NOSB committees regarding work plan items and proposed action items. The last NOSB meeting was held on November 17-20, 2008, in Washington, DC.

At its last meeting, the Board recommended the addition of two materials with one on the National List section 205.601 for use in crops, and with one on section 205.606 for use in handling. The Board also recommended an expiration date of October 21, 2012, for all forms of Tetracycline used in organic crop production on section 205.601.

At this meeting, the NOSB will begin its review of the 11 materials scheduled to expire after September 12, 2011. There are two synthetic substances: Hydrogen chloride (CAS # 7647-01-0) and Ferric phosphate (CAS # 10045-86-0), currently allowed for use in organic crop production, that will no longer be allowed for use after September 12, 2011. There are nine materials: Egg white lysozyme (CAS # 9001-63-2), L-Malic acid (CAS # 97-67-6), Microorganisms, Activated charcoal (CAS #s 7440-44-0; 64365-11-3), Cyclohexylamine (CAS # 108-91-8), Diethylaminoethanol (CAS # 100-37-8), Octadecylamine (CAS # 124-30-1), Peracetic acid/Peroxyacetic acid (CAS # 79-21-0), Sodium acid pyrophosphate (CAS # 7758-16-9), and Tetrasodium pyrophosphate (CAS # 7722-88-5), currently allowed for use in organic handling, that will no longer be allowed for use after September 12, 2011. The sunset review process must be concluded no later than September 12, 2011. If renewal is not concluded by those dates, the use or prohibition of these 11 materials will no longer be in compliance with the NOP.

At this meeting, the Policy Development Committee will present recommendations regarding revisions to the NOSB Policy and Procedures Manual and the Guide for new NOSB members as well as discuss their on-going collaboration with the NOP to review the NOP responses to prior NOSB recommendations.

The Compliance, Accreditation, and Certification Committee will present their recommendations for use as guidance by accredited certifying agents for the labeling of products certified as 100 percent organic and their recommendation for use as guidance by the NOP to meet the requirements of Sec. 2117 (7 U.S.C. 6516) and section 205.509 in regard to Peer Review.

The Compliance, Accreditation, and Certification and the Crops Committees will jointly present their recommendation offering guidance for accredited certifying agents and the NOP to strengthen the implementation of the principles of biodiversity and conservation throughout the organic standards.

The Crops Committee will present recommendations on the materials: Isoparrafinic hydrocarbon and the on-farm manufacture of Sulfurous Acid petitioned for use on section 205.601. The Committee will begin their review on the continued use or prohibition of the material exemptions for Hydrogen chloride (CAS # 7647-01-0) and Ferric phosphate (CAS # 10045-86-0), with their respective annotations and limitations, currently allowed for use in organic crop production, that will no longer be allowed for use after September 12, 2011.

The Livestock Committee will present their recommendations on the materials: Propionic Acid and Injectable vitamins and minerals for use as supplements, petitioned for inclusion in 205.603 for use in organic livestock production. The Committee will also present their recommendation in regard to the development of organic aquaculture standards for bivalves.

The Materials and Handling Committees will jointly present their recommendation on the definition of a nonagricultural substance in section 205.2.

The Handling Committee will present their recommendations on the materials: Propionic acid, Sodium chlorite, acidified, and Propane as a processing aid, petitioned for inclusion in section 205.605 for use in organic products. The Committee will present their recommendations on the materials: Chickory Root Extract, Red Corn Color, Myrrh Essential Oil, and Wheat Germ, petitioned for inclusion in section 205.606 for use in organic products depending on final commercial availability determinations performed by accredited certifying agents. The Committee will present their recommendations on the material: Lecithin, bleached, petitioned for removal from use from section 205.605 (b) in organic products and on the material Lecithin, unbleached, fluid, petitioned for removal from section 205.606 for use in organic products.

The Handling Committee will also begin their review on the continued use or prohibition of the material exemptions for nine materials: Egg White Lysozyme (CAS # 9001-63-2), L-Malic acid (CAS # 97-67-6), Microorganisms, Activated charcoal (CAS #s 7440-44-0; 64365-11-3), Cyclohexylamine (CAS # 108-91-8), Diethylaminoethanol (CAS # 100-37-8), Octadecylamine (CAS # 124-30-1), Peracetic acid/Peroxyacetic acid (CAS # 79-21-0), Sodium acid pyrophosphate (CAS # 7758-16-9), and Tetrasodium pyrophosphate (CAS # 7722-88-5), with their respective annotations and limitations currently allowed for use in organic handling on section 205.605, that will no longer be allowed for use after September 12, 2011.

The meeting is open to the public. The NOSB has scheduled time for public input for Monday, May 4, 2009, from 10:45 a.m. to 5 p.m. and Tuesday, May 5, 2009, from 3:30 p.m. to 5 p.m. Individuals and organizations wishing to make oral presentations at the meeting may forward their requests by mail, facsimile, e-mail, or phone to Ms. Valerie Frances as listed in ADDRESSES above. Individuals or organizations will be given approximately five minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit http://www.regulations.gov to submit and view comments as provided for in ADDRESSES above. Documents presented at the meeting will be posted for review on the NOP Web site approximately six weeks following the meeting.

Dated: March 16, 2009.
Robert C. Keeney,
Acting Associate Administrator.

[FR Doc. E9-6056 Filed 3-19-09; 8:45 am]

BILLING CODE 3410-02-P